NATIONAL AERONAUTICS AND SPACE ADMINISTRATION

[Notice (10-064)]

National Environmental Policy Act; Scientific Balloon Program

AGENCY: National Aeronautics and Space Administration (NASA).

ACTION: Notice of availability and request for comments on the Draft Programmatic Environmental Assessment (PEA) and Draft Finding of No Significant Impact (FONSI) for NASA's Scientific Balloon Program.

SUMMARY: Pursuant to the National Environmental Policy Act of 1969, as amended (NEPA) (42 U.S.C. 4321 et seq.), the Council on Environmental Quality Regulations for Implementing the Procedural Provisions of NEPA (40 CFR Parts 1500-1508), and NASA NEPA policy and procedures (14 CFR Part 1216, Subpart 1216.3), NASA has prepared a Draft PEA that analyzes scientific balloon launch and flight operations originating from NASA's Columbia Scientific Balloon Facilities (CSBF) in Fort Sumner, New Mexico and Palestine, Texas. NASA has launched and monitored the flights of balloons from these locations for over 25 years. NASA is not proposing to change the launch locations and is only proposing to increase the number of scientific balloons launched each year. Balloon flights originating from CSBF Fort Sumner would increase from 15 to 25 annually; balloons launched from CSBF Palestine would continue at approximately 6 per year. The No Action Alternative, under which balloon launch and flight operations would not increase, is also analyzed in detail in the Draft PEA.

In accordance with its NEPA procedures, NASA has also prepared a Draft FONSI that preliminarily concludes that an Environmental Impact Statement is not needed for the proposal.

DATES: Interested parties are invited to submit comments on the draft PEA and the draft FONSI, preferably in writing, no later than 30 days from the date of publication of this notice in the Federal Register.

ADDRESSES: Comments submitted via mail should be addressed to: Joshua A. Bundick, NEPA Program Manager, Scientific Balloon Program, NASA Goddard Space Flight Center's Wallops Flight Facility, Wallops Island, VA 23337. Comments also may be submitted via electronic mail to: wff-nepa@lists.nasa.gov.

The Draft PEA and Draft FONSI may be viewed at the following locations:

(a) Fort Sumner Public Library, 235 West Sumner Avenue, Fort Sumner, New Mexico 88119 (575-355-2832).

(b) Palestine Public Library, 1101 North Cedar Street, Palestine, Texas 75801 (903-729-4121).

(c) NASA Headquarters Library, Room 1J20, 300 E Street, SW., Washington, DC 20546-0001 (202-358-0168).

The Draft PEA and Draft FONSI are also available on the internet in Adobe® portable document format at the following address: http://sites.wff.nasa.gov/code250/BPO_PEA.php. Limited hard copies of the Draft PEA and Draft FONSI are available, on a first request basis, by contacting Joshua Bundick at the address or telephone number indicated below.

FOR FURTHER INFORMATION CONTACT: Joshua Bundick, NEPA Program Manager, NASA Goddard Space Flight Center's Wallops Flight Facility; telephone 757-824-2319; or electronic mail at Joshua.A.Bundick@nasa.gov. Additional information about the Scientific Balloon Program may be found on the internet at http://sites.wff.nasa.gov/code820/.

SUPPLEMENTARY INFORMATION: NASA has launched and monitored the flights of balloons from the Columbia Scientific Balloon Facilities (CSBF) located in Fort Sumner, New Mexico and Palestine, Texas for over 25 years. Balloons are used to collect scientific data and conduct research on the atmosphere and near-space environments primarily in support of NASA's Science Mission Directorate. Significant finds, such as the discovery of the ozone hole above the Antarctic in the mid-1980s, have been made by instruments tested or operated on balloon missions launched from CSBF. In recent years, NASA's balloon program has seen a dramatic increase in sophistication of experiments and demands for service. Due to the flexibility and relatively low cost of the program, there is an increased need for balloon-based research and development missions. As such, NASA seeks to increase the annual number of balloons launched from the CSBF Fort Sumner facility.

The Draft PEA addresses the environmental impacts associated with balloon launch, flight, and recovery operations. Although balloons are typically launched from one of the two CSBF facilities, their flight paths are wind-driven, and they could land in adjacent states. An analysis of the past ten years of flights indicates that the majority of balloons and payloads are recovered from Texas, New Mexico, and Arizona. Only a handful of balloons or payloads have landed in the neighboring states of Oklahoma, Kansas, and Colorado.

In preparing the Draft PEA, NASA requested input from over fifty potentially interested parties, including those in Federal, State, and Tribal governments. During this process, several commenters expressed an interest in potential effects on cultural resources; others either offered support of the proposal or did not comment. Accordingly, NASA has assessed the potential effects of the proposal and the No Action Alternative on physical, biological, and social resources and has tentatively concluded those impacts are not significant.

Olga M. Dominguez,
Assistant Administrator for Office of Strategic Infrastructure.

[FR Doc. 2010-14406 Filed 6-14-10; 8:45 am]

BILLING CODE P